DEPARTMENT OF DEFENSE

Department of the Army

Availability for Non-Exclusive, Exclusive, or Partially Exclusive Licensing of U.S. Provisional Patent Applications Concerning an Apparatus for Fastening a Lid to a Container, and a Lid Driver

AGENCY: Department of the Army, DoD.

ACTION: Notice.

SUMMARY: In accordance with 37 CFR 404.6 and 404.7, announcement is made of the availability for licensing of the inventions described in U.S. Provisional Patent Application Serial No. 60/529,701, entitled “Lid Driver,” filed December 16, 2003; and U.S. Provisional Patent Application Serial No. 60/556,029 entitled “Apparatus for Fastening a Lid to a Container,” filed March 25, 2004. The United States Government, as represented by the Secretary of the Army, has rights in these inventions.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present inventions generally relates to apparatuses for securing devices, and more specifically, an apparatus for attaching and removing a lid to a container.

Brenda S. Bowen,
Army Federal Register Liaison Officer.

[FR Doc. 04-21572 Filed 9-24-04; 8:45 am]

BILLING CODE 3710-08-M